SECURITIES AND EXCHANGE COMMISSION

[Release No. 34-77170; SR-NYSEArca-2015-104]

Self-Regulatory Organizations; NYSE Arca, Inc.; Notice of Withdrawal of a Proposed Rule Change To Adopt a New Policy Relating To Trade Reports for Exchange Traded Products

February 18, 2016.

On October 28, 2015, NYSE Arca, Inc. (“Exchange”) filed with the Securities and Exchange Commission (“Commission”), pursuant to section 19(b)(1) of the Securities Exchange Act of 1934 (“Act”) ¹ and Rule 19b-4 thereunder,² a proposed rule change to adopt a new policy relating to the Exchange's treatment of trade reports for Exchange Traded Products that it determines to be inconsistent with the prevailing market. The proposed rule change was published for comment in the Federal Register on November 18, 2015.³ The Commission received two comments on the proposed rule change.⁴ On December 17, 2015, pursuant to section 19(b)(2) of the Act,⁵ the Commission designated a longer period within which to either approve the proposed rule change, disapprove the proposed rule change, or institute proceedings to determine whether to disapprove the proposed rule change.⁶

¹ 15 U.S.C. 78s(b)(1).

² 17 CFR 240.19b-4.

³ See Securities Exchange Act Release No. 76431 (Nov. 12, 2015), 80 FR 72126.

⁴ See Letter from Gary Gastineau, ETF Consultants.com, Inc., to the Commission (Nov. 27, 2015); Letter from James J. Angel, Associate Professor, Georgetown University, to the Commission (Dec. 5, 2015). All comments on the proposed rule change are available on the Commission's Web site at: http://www.sec.gov/comments/sr-nysearca-2015-104/nysearca2015104.shtml.

⁵ 15 U.S.C. 78s(b)(2).

⁶ See Securities Exchange Act Release No. 76673, 80 FR 79963 (Dec. 23, 2015). The Commission determined that it was appropriate to designate a longer period within which to take action on the proposed rule change so that it had sufficient time to consider the proposed rule change and the comments received. Accordingly, the Commission designated February 16, 2016 as the date by which it should approve, disapprove, or institute proceedings to determine whether to disapprove the proposed rule change.

On January 28, 2016, the Exchange withdrew the proposed rule change (SR-NYSEArca-2015-104).

For the Commission, by the Division of Trading and Markets, pursuant to delegated authority.⁷
⁷ 17 CFR 200.30-3(a)(57).
Robert W. Errett,
Deputy Secretary.

[FR Doc. 2016-03739 Filed 2-22-16; 8:45 am]

BILLING CODE 8011-01-P